COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before: July 12, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

MR 11100—Server, Gravy and Sauce, Includes Shipper 21100

MR 11130—Carving Kit, Pumpkin, Assorted Colors

Mandatory Source of Supply: Winston-Salem Industries for the Blind, Inc., Winston-Salem, NC

Contracting Activity: Military Resale-Defense Commissary Agency

NSN(s)—Product Name(s):

MR 1186—Broom Dustpan Combo

Mandatory Source of Supply: LC Industries, Inc., Durham, NC

Contracting Activity: Military Resale-Defense Commissary Agency

Services

Service Type: Base Supply Center

Mandatory for: New Mexico National Guard, Santa Fe, NM

Mandatory Source of Supply: Envision, Inc., Wichita, KS

Contracting Activity: DEPT OF THE ARMY, W7NQ USPFO ACTIVITY NM ARNG

Service Type: Janitorial Service

Mandatory for: U.S. Army Engineer District San Francisco, Bay Model Visitor Center and Baseyard Building, Sausalito, CA

Mandatory Source of Supply: North Bay Rehabilitation Services, Inc., Rohnert Park, CA

Contracting Activity: DEPT OF THE ARMY, W075 ENDIST SAN FRAN

Service Type: Custodial Service

Mandatory for: FAA, Cheyenne System Support Center, Cheyenne, WY

Mandatory Source of Supply: Northwest Community Action Programs of Wyoming, Inc., Worland, WY

Contracting Activity: FEDERAL AVIATION ADMINISTRATION, 697DCK REGIONAL ACQUISITIONS SVCS

Service Type: Janitorial & Grounds Service

Mandatory for: FAA, Air Traffic Control Tower, Teterboro, NJ

Mandatory Source of Supply: Fedcap Rehabilitation Services, Inc., New York, NY

Contracting Activity: FEDERAL AVIATION ADMINISTRATION, 697DCK REGIONAL ACQUISITIONS SVCS

Deletions

The following products are proposed for deletion from the Procurement List:

Products

NSN(s)—Product Name(s):

8415-01-043-4036—Drawers, Flyers, Aramid, Navy, Ankle Length, Natural, XS

8415-00-467-4075—Drawers, Flyers, Aramid, Navy, Ankle Length, Natural, Small

8415-00-467-4076—Drawers, Flyers, Aramid, Navy, Ankle Length, Natural, Medium

8415-00-467-4078—Drawers, Flyers, Aramid, Navy, Ankle Length, Natural, Large

8415-00-467-4100—Drawers, Flyers, Aramid, Navy, Ankle Length, Natural, X Large

Mandatory Source of Supply: Peckham Vocational Industries, Inc., Lansing, MI

Contracting Activity: DLA TROOP SUPPORT, PHILADELPHIA, PA

NSN(s)—Product Name(s):

7510-01-451-2269—Refill, Ball Point Pen, Pushcap, Black Ink, Medium Point

7510-01-451-2273—Refill, Ball Point Pen, Pushcap, Blue Ink, Medium Point

Mandatory Source of Supply: West Texas Lighthouse for the Blind, San Angelo, TX

Contracting Activity: GSA/FAS ADMIN SVCS ACQUISITION BR(2, NEW YORK, NY

NSN(s)—Product Name(s):

8470-00-NIB-0026—Kit, ACH Pad, Rplcmt

8470-00-NIB-0027—Kit, ACH Retrofit

8470-00-NIB-0028—Kit, ACH Retrofit

Mandatory Source of Supply: Winston-Salem Industries for the Blind, Inc., Winston-Salem, NC

Contracting Activity: W6QK ACC-APG NATICK, NATICK, MA

NSN(s)—Product Name(s):

7360-00-139-1063—Wash Kit Assembly

Mandatory Source of Supply: St. Lawrence County Chapter, NYSARC, Canton, NY

Contracting Activity: DLA TROOP SUPPORT, PHILADELPHIA, PA

Michael R. Jurkowski,
Deputy Director, Business & PL Operations.

[FR Doc. 2020-12703 Filed 6-11-20; 8:45 am]

BILLING CODE 6353-01-P